DEPARTMENT OF LABOR

Employment and Training Administration

[TA-W-60,115]

Modine Manufacturing, Blythewood, SC; Notice of Revised Determination on Reconsideration

On November 16, 2006, the Department issued an Affirmative Determination Regarding Application for Reconsideration for the workers and former workers of Modine Manufacturing, Blythewood, South Carolina (the subject firm). The Department's Notice of affirmative determination was published in the Federal Register on November 24, 2006 (71 FR 67918).

The worker-filed petition, dated September 19, 2006, stated that the subject firm produces automotive transmission oil coolers, that the subject firm will close in April 2007, and that subject firm production is shifting abroad (to Mexico).

The denial of the workers' eligibility to apply for Trade Adjustment Assistance (TAA) and Alternative Trade Adjustment Assistance (ATAA) was based on the Department's findings that there was no decline in sales or production in January through August 2006 compared to the same period in 2005, the subject firm did not import, and the subject firm did not shift production abroad during the relevant period. The determination was issued on October 12, 2006 and the Notice of determination was published in the Federal Register on October 25, 2006 (71 FR 62490).

Based on the July 20, 2006 WARN notice provided during the reconsideration (“It is anticipated that the plant closing will commence on September 15, 2006 and will continue into 2007”), the Department determines that, during the relevant period, there were significant sales, production, and employment declines at the subject firm.

On reconsideration, the Department received information that revealed no increased import purchases of automotive transmission oil coolers or articles like or directly competitive with automotive transmission oil coolers by either the subject firm or the subject firm's major declining customers. As such, the Department determines that increased imports did not contribute importantly to the subject workers' separations.

During the reconsideration investigation, the Department also confirmed with company officials that production shifted from the subject firm to an affiliated facility in Illinois.

When it became apparent during the reconsideration investigation that the subject workers are not eligible to apply for TAA as primary workers, the Department conducted an investigation to determine whether the workers are eligible as secondary workers (workers of a company that supplied component parts to a customer that employed a group of workers certified for TAA).

As the reconsideration investigation progressed, the Department was able to identify a subject firm customer that employed a group of workers who received a TAA certification and determined that the component parts supplied by the subject firm are related to the article that was the basis for the certification. Further, the new information revealed that the TAA-certified customer constituted over 20% of subject firm sales prior to the plant closure in September 2006.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the information obtained in the reconsideration investigation, I determine that workers of Modine Manufacturing, Blythewood, South Carolina qualify as adversely affected secondary workers under Section 222 of the Trade Act of 1974, as amended. In accordance with the provisions of the Act, I make the following certification:

“All workers of Modine Manufacturing, Blythewood, South Carolina, who became totally or partially separated from employment on or after September 19, 2005 through two years from the date of this certification, are eligible to apply for adjustment assistance under Section 223 of the Trade Act of 1974, and are eligible to apply for alternative trade adjustment assistance under Section 246 of the Trade Act of 1974.”

Signed at Washington, DC, this 6th day of April 2007.
Elliott S. Kushner,
Certifying Officer, Division of Trade Adjustment Assistance.

[FR Doc. E7-7099 Filed 4-13-07; 8:45 am]

BILLING CODE 4510-FN-P